DEPARTMENT OF TRANSPORTATION

Federal Aviation Administration

Advisory Circular No. 20-73A, Aircraft Ice Protection

AGENCY: Federal Aviation Administration, DOT.

ACTION: Notice of issuance of Advisory Circular.

SUMMARY: This notice announces the issuance of Advisory Circular (AC) 20-73A, Aircraft Ice Protection. This AC tells type certificate and supplemental type certificate applicants how to comply with ice protection requirements of Title 14 of the Code of Federal Regulations (14 CFR) parts 23, 25, 29, 33, and 35.

DATES: The Federal Aviation Administration's, Aircraft Engineering Division, issued AC 20-73A on August 16, 2006.

FOR FURTHER INFORMATION CONTACT: The Federal Aviation Administration, Attn: George T. Soteropoulos, Aircraft Engineering Division's Technical Programs and Continued Airworthiness Branch, AIR-120, 800 Independence Avenue, SW., Washington, DC 20591; telephone (202) 267-9796; fax (202) 267-5340; E-mail george.soteropoulos@faa.gov.

SUPPLEMENTARY INFORMATION: We have filed in the docket all substantive comments received, and a report summarizing them. If you wish to review the docket in person, you may do so by going to the above address between 9 a.m. and 4:30 p.m., Monday through Friday, except Federal holidays. If you wish to contact the above named individual directly, you can use the above telephone number or e-mail address.

How To Obtain Copies

You may also obtain a copy of the AC via the Internet, by logging onto the FAA's Regulatory and Guidance Library (RGL) at: http://www.airweb.faa.gov/rgl. On the RGL Web site, click on “Advisory Circular, then select Current ACs by number.” Or, contact the person listed in the section titled FOR FURTHER INFORMATION CONTACT.

Issued in Washington, DC, on December 1, 2006.
Susan J.M. Cabler,
Assistant Manager, Aircraft Engineering Division, Aircraft Certification Service.

[FR Doc. 06-9629 Filed 12-11-06; 8:45 am]

BILLING CODE 4910-13-M